DEPARTMENT OF DEFENSE

Office of the Secretary

[Transmittal No. 19-07]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-07 with attached Policy Justification.

Dated: February 1, 2019.
Shelly E. Finke,
Alternate OSD Federal Register Liaison Officer, Department of Defense.

BILLING CODE 5001-06-P

BILLING CODE 5001-06-C

Transmittal No. 19-07

Notice of Proposed Issuance of Letter of Offer Pursuant to Section 36(b)(1) of the Arms Export Control Act, as amended

(i) Prospective Purchaser: Government of Poland

(ii) Total Estimated Value:

Major Defense Equipment * | $335 million
Other | $320 million
TOTAL | $655 million

(iii) Description and Quantity or Quantities of Articles or Services under Consideration for Purchase:

Major Defense Equipment (MDE):

Twenty (20) High Mobility Artillery Rocket System (HIMARS) M142 Launchers

Thirty-six (36) Guided Multiple Launch Rocket System (GMLRS) M31A1 Unitary

Nine (9) Guided Multiple Launch Rocket System (GMLRS) M30A1 Alternative Warhead

Thirty (30) Army Tactical Missile System (ATACMS) M57 Unitary

Twenty-four (24) Advanced Field Artillery Tactical Data Systems (AFATDS)

Twenty (20) Multiple Launcher Pod Assembly M68A2 Trainers

Twenty-four (24) M1151A1 High Mobility Multi-purpose Wheeled Vehicles (HMMWVs)

Nine (9) M1151A1 High Mobility Multi-purpose Wheel Vehicles (HMMWVs)

Non-MDE:

Also included are twenty (20) Low Cost Reduced Range (LCRR) practice rockets, support equipment, communications equipment, spare and repair parts, test sets, batteries, laptop computers, publications and technical data, facility design, personnel training and equipment, systems integration support, Quality Assurance Teams and a Technical Assistance Fielding Team, United States Government and contractor engineering and logistics personnel services, and other related elements of logistics support, training, sensors, and other related elements of logistics and program support.

(iv) Military Department: Army (PL-B-UDJ)

(v) Prior Related Cases, if any: None

(vi) Sales Commission, Fee, etc., Paid, Offered, or Agreed to be Paid: None

(vii) Sensitivity of Technology Contained in the Defense Article or Defense Service Proposed to be Sold: See Attached Annex.

(viii) Date Report Delivered to Congress: November 29, 2018

* As defined in Section 47(6) of the Arms Export Control Act.

POLICY JUSTIFICATION

Poland—High Mobility Artillery Rocket System (HIMARS) and Related Support and Equipment

Poland has requested to buy twenty (20) High Mobility Artillery Rocket System (HIMARS) M142 Launchers, thirty-six (36) Guided Multiple Launch Rocket System (GMLRS) M31 Unitary, nine (9) Guided Multiple Launch Rocket System (GMLRS) M30A1 Alternative Warheads, thirty (30) Army Tactical Missile System (ATACMS) M57 Unitary, twenty-four (24) Advanced Field Artillery Tactical Data Systems (AFATDS), twenty (20) Multiple Launcher Pod Assembly M68A2 Trainers, twenty-four (24) M1151A1 High Mobility Multi-purpose Wheeled Vehicles (HMMWVs), and nine (9) M1151A1 High Mobility Multi-purpose Wheel Vehicles (HMMWVs). Also included are twenty (20) Low Cost Reduced Range (LCRR) practice rockets, support equipment, communications equipment, spare and repair parts, test sets, batteries, laptop computers, publications and technical data, facility design, personnel training and equipment, systems integration support, Quality Assurance Teams and a Technical Assistance Fielding Team, United States Government and contractor engineering and logistics personnel services, and other related elements of logistics support, training, sensors, and other related elements of logistics and program support. The estimated cost is $655 million.

This proposed sale will support the foreign policy and national security of the United States by improving the security of a NATO ally which is an important force for political stability and economic progress in Europe. This sale is consistent with U.S. initiatives to provide key allies in the region with modern systems that will enhance interoperability with U.S. forces and increase security.

Poland intends to use these defense articles and services to modernize its armed forces and expand its capability to strengthen its homeland defense and deter regional threats. This will contribute to Poland's interoperability with the United States and other allies. Poland will have no difficulty absorbing this equipment into its armed forces.

The proposed sale of this equipment will not alter the basic military balance in the region.

The principal contractor will be Lockheed Martin, Grand Prairie, TX. There are no known offset agreements proposed in connection with this potential sale.

Implementation of this proposed sale will require U.S. Government or contractor representatives to travel to Poland for program management reviews to support the program. Travel is expected to occur approximately twice per year as needed to support equipment fielding and training.

There will be no adverse impact on U.S. defense readiness as a result of this proposed sale.

Transmittal No. 19-07

Notice of Proposed Issuance of Letter of Offer Pursuant to Section 36(b)(1) of the Arms Export Control Act

Annex

Item No. vii

(vii) Sensitivity of Technology:

1. The High Mobility Artillery Rocket Systems (HIMARS) is a highly mobile, all-weather indirect area fire artillery system. The HIMARS mission is to supplement cannon artillery to deliver a large volume of firepower within a short time against critical time-sensitive targets. At shorter ranges, HIMARS complements tube artillery with heavy barrages against assaulting forces as well as in the counter-fire, or defense suppression roles. The highest level of classified information that could be disclosed by a proposed sale, production, or by testing of the end item is SECRET; the highest level that must be disclosed for production, maintenance, or training is CONFIDENTIAL. Reverse engineering could reveal SECRET information. Launcher platform software, weapon operational software, command and control special application software, and command and control loadable munitions module software are considered UNCLASSIFIED. The system specifications and limitations are classified SECRET. Vulnerability data is classified up to SECRET. Countermeasures, counter-countermeasures, vulnerability/susceptibility analyses, and threat definitions are classified SECRET.

2. Guided Multiple Launch Rocket System (GMLRS) Unitary M31A1 uses a Unitary High Explosive (HE) 200 pound class warhead along with GPS aided Inertial Measurement Unit (IMU) based guidance and control for ground-to-ground precision point targeting. The GMLRS Unitary uses an Electronic Safe and Arm Fuze (ESAF) along with a nose mounted proximity sensor to give enhanced effectiveness to the GMLRS Unitary rocket by providing tri-mode warhead functionality with point detonate, point detonate with programmable delay, or Height of Burst proximity function. GMLRS Unitary M31A1 end-item is comprised of a Rocket Pod Container (RPC) and six GMLRS Unitary Rocket(s). The RPC is capable of holding six (6) GMLRS Unitary Rockets and can be loaded in a M270A1 launcher (tracked), HIMARS M142 launcher, or European M270 (203 configuration that meets the GMLRS interface requirements) launcher from which the GMLRS rocket can be launched. The highest classification level for release of the GMLRS Unitary is SECRET, based upon the software, sale or testing of the end item. The highest level of classification that must be disclosed for production, maintenance, or training is CONFIDENTIAL.

3. Guided Multiple Launch Rocket System Alternative Warhead (GMLRS-AW) M30A1. The GMLRS-AW, M30A1, is the next design increment of the GMLRS rocket. The GMLRS-AW M30A1 hardware is over 90% common with the M31A1 GMLRS Unitary hardware. The operational range is between 15-70 kilometers, with an accuracy of less than 15 meters Circular Error Probability at all ranges, when using inertial guidance with Global Positioning System (GPS) augmentation. The system uses a proximity sensor fuze mode with a 10 meter height of burst. The Alternative Warhead carries a 200 pound fragmentation assembly filled with high explosives which, upon detonation, accelerates two layers of pre-formed tungsten fragments optimized for effectiveness against large area and imprecisely located targets. The GMLRS-AW provides an area target attack capability that is treaty compliant (no un-exploded ordnance). It provides a 24 hour, all weather, long range attack capability against personnel, soft and lightly armored targets, and air defense targets. The GMLRS-AW uses the same motor, guidance and control systems fuze mechanisms, and proximity sensors as the M31A1 GMLRS Unitary. The highest classification level for release of the GMLRS-AW is SECRET, based upon the software, sale or testing of the end item. The highest level of classification that must be disclosed for production, maintenance, or training is CONFIDENTIAL.

4. The highest classification level for release of the ATACMS Unitary M57 FMS Variant is SECRET, based upon the software. The highest level of classified information that could be disclosed by a sale or by testing of the end item is SECRET; the highest level that must be disclosed for production, maintenance, or training is CONFIDENTIAL. Reverse engineering could reveal CONFIDENTIAL information. Fire Direction System, Data Processing Unit, and special Application software is classified SECRET. Communications Distribution Unit software is classified CONFIDENTIAL. The system specifications and limitations are classified CONFIDENTIAL. Vulnerability Data, countermeasures, vulnerability/susceptibility analyses, and threat definitions are classified SECRET or CONFIDENTIAL.

5. The GPS Precise Positioning Service (PPS) component of the HIMARS munitions (GMLRS Unitary, Alternative Warhead, and ATACMS Unitary) is also contained in the launcher Fire Direction System, is classified SECRET, and is considered SENSITIVE. The GMLRS M30A1, M31A1, ATACMS M57 and HIMARS M142 launchers employ an inertial navigational system that is aided by a Selective Availability Anti-Spoofing Module (SAASM) equipped GPS receiver. To that end, this system requires encryption keys controlled by, and issued by, the National Security Agency. No GPS PPS design information, including GPS software algorithms, will be disclosed in the course of this sale to country. Susceptibility of GMLRS to diversion or exploitation is considered low risk.

6. AFATDS is a multi-service (U.S. Army and U.S. Marine Corp) automated, expert decision support system used for Command, Control, Communications and integration and synchronization of fires on ground targets during all phases of military conflict. AFATDS provides the automated tools that significantly augment the capability of fire support coordinators, fire support asset commanders, and their respective staffs at every echelon during the planning and execution of fire support on the dynamic battlefields in support of the Maneuver Commander and his plans.

7. If a technologically advanced adversary were to obtain knowledge of the hardware and software elements, the information could be used to develop countermeasures or equivalent systems which might reduce system effectiveness or be used in the development of a system with similar or advanced capabilities.

8. A determination has been made that the Government of Poland can provide substantially the same degree of protection for the sensitive technology being released as the U.S. Government. This sale is necessary in furtherance of the U.S. foreign policy and national security objectives outlined in the Policy Justification.

9. All defense articles and services listed in this transmittal have been authorized for release and export to the Government of Poland.

[FR Doc. 2019-01231 Filed 2-5-19; 8:45 am]

BILLING CODE 5001-06-P